DEPARTMENT OF AGRICULTURE

Animal and Plant Health Inspection Service

[Docket No. APHIS-2013-0047]

U.S. Department of Agriculture Stakeholder Workshop on Coexistence

ACTION: Notice; reopening of comment period.

SUMMARY: We are reopening the comment period for issues and proposals discussed during the workshop on agricultural coexistence that was held on March 12-13, 2015. This action will allow interested persons additional time to prepare and submit comments.

DATES: The comment period for the notice published on February 3, 2015 (80 FR 5729) and extended in a notice published on March 30, 2015 (80 FR 16621) is reopened. We will consider all comments that we receive on or before May 11, 2015.

ADDRESSES: You may submit comments by either of the following methods:

• Federal eRulemaking Portal: Go to http://www.regulations.gov/#!docketDetail;D=APHIS-2013-0047.

• Postal Mail/Commercial Delivery: Send your comment to Docket No. APHIS-2013-0047, Regulatory Analysis and Development, PPD, APHIS, Station 3A-03.8, 4700 River Road Unit 118, Riverdale, MD 20737-1238.

Any comments we receive may be viewed at http://www.regulations.gov/#!docketDetail;D=APHIS-2013-0047 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Michael Tadle, Program Analyst, Planning, Evaluation, and Decision Support, PPD, APHIS, 4700 River Road Unit 120, Riverdale, MD 20737; (301) 851-3140; Michael.A.Tadle@aphis.usda.gov.

SUPPLEMENTARY INFORMATION: On February 3, 2015, we published in the Federal Register (80 FR 5729-5731, Docket No. APHIS-2013-0047) a notice ¹ to announce that the U.S. Department of Agriculture was holding a workshop on agricultural coexistence, the objective of which was to advance an understanding of agricultural coexistence and discuss how to make coexistence achievable for all stakeholders. The 2-day workshop, which was held on March 12-13, 2015, also provided an opportunity to learn from stakeholders representing a wide range of interests with respect to agricultural coexistence.

¹ To view the workshop notice and comments, go to http://www.regulations.gov/#!docketDetail;D=APHIS-2013-0047.

In that notice, we stated that public comments on issues and proposals discussed during the workshop would be accepted from March 13, 2015, through March 27, 2015. On March 30, 2015, we published another notice in the Federal Register (80 FR 16621) to extend the comment period on Docket No. APHIS-2013-0047 for an additional 14 days to April 10, 2015.

We are reopening the comment period on Docket No. APHIS-2013-0047 from the date of this notice through May 11, 2015. This action will allow interested persons additional time to prepare and submit comments. We will also consider all comments that were received between April 11, 2015, and the date of this notice.

Done in Washington, DC, this 22nd day of April 2015.
Kevin Shea,
Administrator, Animal and Plant Health Inspection Service.

[FR Doc. 2015-09845 Filed 4-27-15; 8:45 a.m.]

BILLING CODE 3410-34-P